DEPARTMENT OF AGRICULTURE

Forest Service

Notice of Lincoln County Resource Advisory Committee Meeting

AGENCY: Forest Service, USDA.

ACTION: Notice of meeting

SUMMARY: Pursuant to the authorities in the Federal Advisory Committee Act (Pub. L. 92-463) and under the Secure Rural Schools and Community Self-Determination Act of 2000 (Pub. L. 106-393) and Kootenai National Forest's Lincoln County Resource Advisory Committee will meet on Thursday, June 28, 2007 at 6 p.m. at the Forest Supervisor's Office in Libby, Montana for a business meeting. The meeting is open to the public.

DATES: June 28, 2007

ADDRESSES: Forest Supervisor's Office, 1101 US Hwy 2 West, Libby, Montana

FOR FURTHER INFORMATION CONTACT: Barbara Edgmon, Committee Coordinator, Kootenai National Forest at (406) 283-7764, or e-mail bedgmon@fs.fed.us.

SUPPLEMENTARY INFORMATION: Agenda topics include: funding for fiscal year 2008, review of approved project proposals, election of chair and co-chair, and receiving public comment. If the meeting date or location is changed, notice will be posted in the local newspapers, including the Daily Interlake based in Kalispell, Montana.

Dated: June 8, 2007.
Paul Bradford,
Forest Supervisor.

[FR Doc. 07-2936 Filed 6-13-07; 8:45 am]

BILLING CODE 3410-11-M